NEIGHBORHOOD REINVESTMENT CORPORATION

Sunshine Act Meeting; Corporate Administration Committee Meeting of the Board of Directors

TIME & DATE: 12:30 p.m., Thursday, February 12, 2015.

PLACE: NeighborWorks America—Gramlich Boardroom, 999 North Capitol Street NE., Washington, DC 20002.

STATUS: Open (with the exception of Executive Session).

CONTACT PERSON: Jeffrey Bryson, General Counsel/Secretary, (202) 760-4101; jbryson@nw.org.

AGENDA:

I. Call To Order

II. Human Resources Updates

III. Executive Session: Presentation of Quatt Report

IV. Executive Session: Senior Management Compensation

V. Executive Session: Management & Board Assessment Project Working Session

VI. Adjournment

Jeffrey T. Bryson,
EVP & General Counsel/Corporate Secretary.

[FR Doc. 2015-02382 Filed 2-3-15; 11:15 am]

BILLING CODE 7570-02-P